DEPARTMENT OF THE INTERIOR

Bureau of Land Management

[AZA 30550, AZA 30551, AZA 30552, AZA 30553, AZA 30554, AZA 30582, AZA 30583, AZA 30584, AZA 30596, AZA 30597]

Public Land Order No. 7439; Withdrawal of National Forest System Lands for Recreation Sites, Trailhead, and Summer Home Area; Arizona

AGENCY: Bureau of Land Management, Interior.

ACTION: Public Land Order.

SUMMARY: This order withdraws 2,833.15 acres of National Forest System lands from location and entry under the United States mining laws for 20 years to protect Alto Pit Off-Highway Vehicle Area, Camp Anytown, Camp Patterdell Pines, Camp Pearlstein, Camp Wamotochick, Granite Basin Recreation Area, Lynx Creek Recreation Area, Pine Summit Camp, Williamson Valley Trailhead, and Miller Creek Summer Home Area.

EFFECTIVE DATE: March 17, 2000.

FOR FURTHER INFORMATION CONTACT: Beverley Everson or Doug Franch, Prescott National Forest, 344 S. Cortez Street, Prescott, Arizona 86303, 520-445-7253.

By virtue of the authority vested in the Secretary of the Interior by Section 204 of the Federal Land Policy and Management Act of 1976, 43 U.S.C. 1714 (1994), it is ordered as follows:

1. Subject to valid existing rights, the following described National Forest System lands are hereby withdrawn from location and entry under the United States mining laws (30 U.S.C. Ch. 2 (1994)), to protect Alto Pit Off-Highway Vehicle Area, Camp Anytown, Camp Patterdell Pines, Camp Pearlstein, Camp Wamotochick, Granite Basin Recreation Area, Lynx Creek Recreation Area, Pine Summit Camp, Williamson Valley Trailhead, and Miller Creek Summer Home Area:

Gila and Salt River Meridian, Prescott National Forest

Alto Pit OHV Area (AZA 30596)

T.14 N., R.3 W.,

Sec. 15, lots 1 to 5, inclusive, S½N½, N½SW¼, and NE¼SW¼SW¼;

Sec. 16, E½SE¼NE¼ and NE¼NE¼SE¼.

Camp Anytown (AZA 30553)

T.14 N., R.3 W.,

Sec. 24, N½N½NW¼.

Camp Patterdell Pines (AZA 30554)

T.13 N., R.2 W.,

Sec. 28, lots 9, 14, and 15.

Camp Pearlstein (AZA 30583)

T.13 N., R.3 W.,

Sec. 12, lot 5;

Sec. 13, lot 2.

Camp Wamotochick (AZA 30551)

T.13N., R2W.,

Sec. 35, lots 12 and 13.

Granite Basin Recreation Area (AZA 30597)

T.14 N., R.3W.,

Sec. 1, SW¼SW¼;

Sec. 2, SW¼NE¼, E½SE¼NW¼, E½NE¼SW¼, NW¼NE¼SW¼, E½SW¼NE¼SW¼, NE¼SE¼SW¼, E½NW¼SE¼SW¼, N½SE¼SE¼SW¼, and SE¼;

Sec. 3, NE¼NE¼SE¼, W½NE¼SE¼, W½SE¼NE¼SE¼, W½NE¼SE¼SE¼,E½NW¼SE¼SE¼, and W½SW¼SE¼SE¼;

Sec. 10, E½NE¼NE¼NE¼, W½NW¼NE¼NE¼, S½NE¼NE¼, SE¼NE¼, and E½SE¼;

Sec. 11, lots 11 to 17, inclusive, E½NE¼, W½NW¼, SW¼SW¼, and SE¼;

Sec. 12, W½ and SW¼NE¼;

Sec. 13, W½NW¼ and SW¼;

Sec. 14, lots 1 to 6, inclusive, E½NE¼, and NE¼NE¼SE¼;

Sec. 15, NE¼NE¼;

Sec. 24, lots 1, 3, and 4, and S½N½NW¼.

Lynx Creek Recreation Area Expansion (AZA 30584)

T.13N., R.1W.,

Sec. 5, lots 10 and 11, S½NW¼, and W½SW¼ (except the lands withdrawn by Public Land Order No. 5058);

Sec. 6, lot 8 and SE¼NE¼ (except the lands withdrawn by Public Land Order No. 5058);

Sec. 8, NE¼NW¼ and N½NW¼NW¼ (except the lands withdrawn by Public Land Order No. 5058).

Pine Summit Camp (AZA 30550)

T.13N., R.2W.,

Sec. 34, lots 9 (except the patented portion of MS 4226), 10 (except the patented portion of MS 4226), 11, 12, and 18;

Sec. 35, lots 14 and 15.

Williamson Valley Trailhead (AZA 30582)

T.15N., R.2W.,

Portions of lot 4, sec. 19 and lot 1, sec. 30, more particularly described by metes and bounds as follows: BEGINNING at the section corner of secs. 19, 30, 24, and 25, T. 15 N., Rs. 2 and 3 W., thence south along the west section line of sec. 30, 50 feet, thence along a line parallel with the north section line of sec. 30, 125.2 feet to the west right-of-way line of the Williamson Valley Road, A.K.A., Prescott-Simmons County Highway; thence North 23 degrees West, 320.5 feet along said right-of-way line to the west section line of sec. 19; thence south along said section line, 245 feet to the POINT OF BEGINNING.

T.15N., R.3W.,

Sec. 25, NE¼NE¼NE¼NE¼.

Miller Creek Summer Home Area (AZA 30552)

T.14N., R.3W.,

Sec. 35, W½NE¼SE¼SW¼ and NW¼SE¼SW¼.

The areas described aggregate 2,833.15 acres in Yavapai County.

2. This withdrawal will expire 20 years from the effective date of this order unless, as a result of a review conducted before the expiration date pursuant to section 204(f) of the Federal Land Policy and Management Act of 1976, 43 U.S.C. 1714(f) (1994), the Secretary determines that the withdrawal shall be extended.

Dated: March 13, 2000.
Sylvia V. Baca,
Assistant Secretary of the Interior.

[FR Doc. 00-6667 Filed 3-16-00; 8:45 am]

BILLING CODE 3410-11-P